DEPARTMENT OF COMMERCE

National Oceanic and Atmospheric Administration

[RTID 0648-XA449]

North Pacific Fishery Management Council; Public Meeting

AGENCY: National Marine Fisheries Service (NMFS), National Oceanic and Atmospheric Administration (NOAA), Commerce.

ACTION: Notice of public meeting.

SUMMARY: The North Pacific Fishery Management Council's (NPFMC) Trawl Electronic Monitoring (EM) Committee will meet via webconference.

DATES: The meeting will be held on Thursday, September 17, 2020, from 8:30 a.m. to 4:30 p.m., Alaska Time.

ADDRESSES: The meeting will be a webconference. Join online through the link at https://meetings.npfmc.org/Meeting/Details/1643.

Council address: North Pacific Fishery Management Council, 1007 W 3rd Ave, Anchorage, AK 99501-2252; telephone: (907) 271-2809. Instructions for attending the meeting are given under SUPPLEMENTARY INFORMATION, below.

FOR FURTHER INFORMATION CONTACT: Anna Henry, Council staff; phone: (907) 271-2809 and email: Anna.Henry@noaa.gov. For technical support please contact administrative Council staff, email: npfmc.admin@noaa.gov.

SUPPLEMENTARY INFORMATION:

Agenda

Thursday, September 17, 2020

The agenda will include discussion of: The NMFS Alaska Region Electronic Technologies Implementation Plan; EM cost metrics; 2020 Trawl EM program; planning for the 2021 Trawl EM program; scheduling and other issues. The Agenda is subject to change, and the latest version will be posted at https://meetings.npfmc.org/Meeting/Details/1643 prior to the meeting, along with meeting materials.

Connection Information

You can attend the meeting online using a computer, tablet, or smart phone; or by phone only. Connection information will be posted online at: https://meetings.npfmc.org/Meeting/Details/1643.

Public Comment

Public comment letters will be accepted and should be submitted electronically to https://meetings.npfmc.org/Meeting/Details/1643.

Special Accommodations

The meeting is accessible to people with disabilities. Requests for sign language interpretation or other auxiliary aids should be directed to Shannon Gleason at (907) 903-3107 at least 7 working days prior to the meeting date.

(Authority: 16 U.S.C. 1801 et seq.)

Dated: August 27, 2020.
Rey Israel Marquez,
Acting Deputy Director, Office of Sustainable Fisheries, National Marine Fisheries Service.

[FR Doc. 2020-19281 Filed 8-31-20; 8:45 am]

BILLING CODE 3510-22-P